DEPARTMENT OF JUSTICE

Antitrust Division

Notice Pursuant to the National Cooperative Research and Production Act of 1993—The Open Group, L.L.C.

Notice is hereby given that, on August 31, 2018, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Adventium Enterprises LLC, Minneapolis, MN; Ajman Municipality Planning Department, Ajman, INDIA; Alaska Airlines, Inc., Seattle, WA; Anurag Group of Institutions, Hyderabad, INDIA; Castlenet Consulting Limited, Lagos, NIGERIA; FIOS Insight LLC, Houston, TX; Frazer-Nash Consultancy Ltd., Basingstoke, UNITED KINGDOM; Global Interop S.A. de C.V., Mexico City, MEXICO; Innoitus Austech Institute PTY Ltd., Moonee Ponds, AUSTRALIA; IAG GBS, Ltd., London, UNITED KINGDOM; iRF-Intelligent RF Solutions, LLC, Sparks, MD; IT Service Management Forum International Limited, Copenhagen, DENMARK; Kerala State IT Mission, Thiruvananthapuram, INDIA; Ohio Associated Enterprises, LLC, Plainsville, OH; PLCOpen, Gorinchem, THE NETHERLANDS; Rantec Power Systems Inc., Los Osos, CA; Reserve Bank of New Zealand, Wellington, NEW ZEALAND; Sopra Steria Denmark, Copenhagen, DENMARK; Texas Department of Motor Vehicles, Austin, TX; Twin Oaks Computing, Inc., Castle Rock, CO; University of the Witwatersrand, Johannesburg, SOUTH AFRICA; UTC Aerospace Systems, Westford, MA; ValueBlue BV, Ultrecht, THE NETHERLANDS; Vendata Group, Gurgaon, INDIA; VIStology, Inc., Framingham, MA; and VSTP Educação LTDA, São Paulo, BRAZIL, have been added as parties to this venture.

Also, Acando AS, Trondheim, NORWAY; alphabet AG, Berlin, GERMANY; CTC TrainCanada, Inc., Ottawa, CANADA; Information Professionals Group, Brisbane, AUSTRALIA; Lonmin Platinum, Mooinooi, SOUTH AFRICA; and the University of Luxembourg, Luxembourg, LUXEMBOURG, have withdrawn as parties to this venture.

In addition, Impetus Consulting FZE-LLC has changed its name to Impetus FZE, Ras Al Khaimah, UNITED ARAB EMIRATES; and Statoil ASA to Equinor ASA, Fornebu, NORWAY.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on June 18, 2018. A notice was published in the Federal Register pursuant to Section 6(b) of the Act on July 18, 2018 (83 FR 33948).

Suzanne Morris,
Chief, Premerger and Division Statistics Unit, Antitrust Division.

[FR Doc. 2018-20156 Filed 9-14-18; 8:45 am]

BILLING CODE 4410-11-P